ENVIRONMENTAL PROTECTION AGENCY

[EPA-HQ-OAR-2021-0647; FRL-9973-01-OMS]

Information Collection Request Submitted to OMB for Review and Approval; Comment Request; NSPS for Storage Vessels for Petroleum Liquids for Which Construction, Reconstruction or Modification Commenced After June 11, 1973 and Prior to May 19, 1978 (Renewal)

AGENCY: Environmental Protection Agency (EPA).

ACTION: Notice.

SUMMARY: The Environmental Protection Agency (EPA) has submitted an information collection request (ICR), NSPS for Storage Vessels for Petroleum Liquids for Which Construction, Reconstruction or Modification Commenced After June 11, 1973 and Prior to May 19, 1978 (EPA ICR Number 1797.09, OMB Control Number 2060-0442), to the Office of Management and Budget (OMB) for review and approval in accordance with the Paperwork Reduction Act. This is a proposed extension of the ICR, which is currently-approved through June 30, 2022. Public comments were previously requested, via the Federal Register, on February 8, 2021, during a 60-day comment period. This notice allows for an additional 30 days for public comments. A fuller description of the ICR is given below, including its estimated burden and cost to the public. An agency may neither conduct nor sponsor, and a person is not required to respond to, a collection of information unless it displays a currently valid OMB control number.

DATES: Additional comments may be submitted on or before July 28, 2022.

ADDRESSES: Submit your comments, referencing Docket ID Number EPA-HQ-OAR-2020-0647, online using www.regulations.gov (our preferred method) or by mail to: EPA Docket Center, Environmental Protection Agency, Mail Code 2821T, 1200 Pennsylvania Ave., NW, Washington, DC 20460. EPA's policy is that all comments received will be included in the public docket without change including any personal information provided, unless the comment includes profanity, threats, information claimed to be Confidential Business Information (CBI), or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Muntasir Ali, Sector Policies and Program Division (D243-05), Office of Air Quality Planning and Standards, U.S. Environmental Protection Agency, Research Triangle Park, North Carolina 27711; telephone number: (919) 541-0833; email address: ali.muntasir@epa.gov.

SUPPLEMENTARY INFORMATION: Supporting documents, which explain in detail the information that the EPA will be collecting, are available in the public docket for this ICR. The docket can be viewed online at https://www.regulations.gov, or in person, at the EPA Docket Center, WJC West Building, Room 3334, 1301 Constitution Ave. NW, Washington, DC. The telephone number for the Docket Center is 202-566-1744. For additional information about EPA's public docket, visit: http://www.epa.gov/dockets.

Abstract: The New Source Performance Standards (NSPS) for Storage Vessels for Petroleum Liquids for Which Construction, Reconstruction or Modification Commenced After June 11, 1973 and Prior to May 19, 1978 (40 CFR part 60, subpart K) apply to existing facilities for which construction, reconstruction, or modification commenced after June 11, 1973 and prior to May 19, 1978 that store petroleum liquids in storage vessels with a storage capacity greater than 151,416 liters (40,000 gallons), including: storage vessels with capacity greater than 151,416 liters (40,000 gallons), but not exceeding 246,052 liters (65,000 gallons). In general, all NSPS standards require initial notifications, performance tests, and periodic reports by the owners/operators of the affected facilities. They are also required to maintain records of the occurrence and duration of any startup, shutdown, or malfunction in the operation of an affected facility, or any period during which the monitoring system is inoperative. These notifications, reports, and records are essential in determining compliance and are required of all affected facilities subject to NSPS.

Form Numbers: None.

Respondents/affected entities: Owners and operators of storage vessels subject to 40 CFR part 60, subpart K.

Respondent's obligation to respond: Mandatory (40 CFR part 60, subpart K)

Estimated number of respondents: 281 (total).

Frequency of response: Occasionally.

Total estimated burden: 1,310 hours (per year). Burden is defined at 5 CFR 1320.3(b).

Total estimated cost: $154,000 (per year), which includes $0 for annualized capital/startup and/or operation & maintenance costs.

Changes in the Estimates: The increase in burden from the most-recently approved ICR is due to an adjustment. The previously approved ICRs (1797.08, 1797.07) relied on information from the 2011 Petroleum Refinery ICR for estimates of facilities with storage tanks subject to 40 CFR part 60, subpart K, which was the best source of information at that time. However, this ICR updates the number of facilities based on data from EPA's ECHO database, which tracks a total of 281 refineries, terminals, and other facilities that report information under 40 CFR part 60, subpart K. This estimate is a more-recent estimate of affected sources and is similar to those estimates conducted in prior ICRs (e.g., 1797.06) and reflects the Agency's best knowledge of actual subject entities. However, we expect this number may be lower as facilities that modify tanks initially subject to subpart K would become subject to other regulations, e.g., 40 CFR part 60, subpart Kb. Finally, there is no change in both capital/startup and O&M costs compared to the prior ICR renewal.

Courtney Kerwin,
Director, Regulatory Support Division.

[FR Doc. 2022-13756 Filed 6-27-22; 8:45 am]

BILLING CODE 6560-50-P